FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, with revision, the Report of Selected Assets and Liabilities of Domestically Chartered Commercial Banks and U.S. Branches and Agencies of Foreign Banks (FR 2644; OMB No. 7100-0075).

DATES: Comments must be submitted on or before January 14, 2025.

ADDRESSES: You may submit comments, identified by FR 2644, by any of the following methods:

• Agency Website: https://www.federalreserve.gov/. Follow the instructions for submitting comments at https://www.federalreserve.gov/apps/foia/proposedregs.aspx.

• Email: regs.comments@federalreserve.gov. Include the OMB number or FR number in the subject line of the message.

• Fax: (202) 452-3819 or (202) 452-3102.

• Mail: Federal Reserve Board of Governors, Attn: Ann E. Misback, Secretary of the Board, Mailstop M-4775, 2001 C St. NW, Washington, DC 20551.

All public comments are available from the Board's website at https://www.federalreserve.gov/apps/foia/proposedregs.aspx as submitted, unless modified for technical reasons or to remove personally identifiable information at the commenter's request. Accordingly, comments will not be edited to remove any confidential business information, identifying information, or contact information. Public comments may also be viewed electronically or in paper in Room M-4365A, 2001 C St. NW, Washington, DC 20551, between 9:00 a.m. and 5:00 p.m. on weekdays, except for Federal holidays. For security reasons, the Board requires that visitors make an appointment to inspect comments. You may do so by calling (202) 452-3684. Upon arrival, visitors will be required to present valid government-issued photo identification and to submit to security screening in order to inspect and photocopy comments.

Additionally, commenters may send a copy of their comments to the Office of Management and Budget (OMB) Desk Officer for the Federal Reserve Board, Office of Information and Regulatory Affairs, Office of Management and Budget, New Executive Office Building, Room 10235, 725 17th Street NW, Washington, DC 20503, or by fax to (202) 395-6974.

FOR FURTHER INFORMATION CONTACT: Federal Reserve Board Clearance Officer—Nuha Elmaghrabi—Office of the Chief Data Officer, Board of Governors of the Federal Reserve System, nuha.elmaghrabi@frb.gov, (202) 452-3884.

SUPPLEMENTARY INFORMATION: On June 15, 1984, OMB delegated to the Board authority under the Paperwork Reduction Act (PRA) to approve and assign OMB control numbers to collections of information conducted or sponsored by the Board. In exercising this delegated authority, the Board is directed to take every reasonable step to solicit comment. In determining whether to approve a collection of information, the Board will consider all comments received from the public and other agencies.

During the comment period for this proposal, a copy of the proposed PRA OMB submission, including the draft reporting form and instructions, supporting statement (which contains more detail about the information collection and burden estimates than this notice), and other documentation, will be made available on the Board's public website at https://www.federalreserve.gov/apps/reportingforms/home/review or may be requested from the agency clearance officer, whose name appears above. On the page displayed at the link above, you can find the supporting information by referencing the collection identifier, FR 2644. Final versions of these documents will be made available at https://www.reginfo.gov/public/do/PRAMain, if approved.

Request for Comment on Information Collection Proposal

The Board invites public comment on the following information collection, which is being reviewed under authority delegated by the OMB under the PRA. Comments are invited on the following:

a. Whether the proposed collection of information is necessary for the proper performance of the Board's functions, including whether the information has practical utility;

b. The accuracy of the Board's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal Under OMB Delegated Authority To Extend for Three Years, With Revision, the Following Information Collection

Collection title: Report of Selected Assets and Liabilities of Domestically Chartered Commercial Banks and U.S. Branches and Agencies of Foreign Banks.

Collection identifier: FR 2644.

OMB control number: 7100-0075.

General description of collection: The FR 2644 is a balance sheet report that is collected as of each Wednesday from an authorized stratified sample of 850 domestically chartered commercial banks and U.S. branches and agencies of foreign banks. The FR 2644 is the only source of high-frequency data used in the analysis of current banking developments. The FR 2644 collects sample data that are used to estimate universe levels for the entire commercial banking sector in conjunction with data from the quarterly commercial bank Consolidated Reports of Condition and Income (FFIEC 031, FFIEC 041, and FFIEC 051; OMB No. 7100-0036) and Report of Assets and Liabilities of U.S. Branches and Agencies of Foreign Banks (FFIEC 002; OMB No. 7100-0032) (Call Reports). Data from the FR 2644 and the Call Reports are utilized in construction of weekly estimates of U.S. bank credit, balance sheet data for the U.S. commercial banking sector, and sources and uses of banks' funds, and to analyze current banking developments, including the monitoring of broad credit and funding conditions. The Board publishes the data in aggregate form in the weekly H.8 statistical release, Assets and Liabilities of Commercial Banks in the United States, which is followed closely by other government agencies, the banking industry, financial press, and other users. The H.8 release provides a balance sheet for the commercial banking industry as a whole as well as disaggregated data for three bank groups: large domestically chartered banks, small domestically chartered banks, and U.S. branches and agencies of foreign banks. The data are also used in constructing the commercial bank component of the Federal Reserve's G.19 release, Consumer Credit, and the Federal Reserve Bank of New York's Reserve Demand Elasticity.

Proposed revisions: The Board proposes to simplify and reduce the overall reporting burden associated with the FR 2644 report. The Board is not proposing any changes to the items collected on the report at this time. The revision would affect the frequency and associated burden for a group of small banks.

Currently, all respondents file balance sheet data weekly, with data as of close of business Wednesday. While weekly data are necessary from large and regional banks to meet the need by the Board for high frequency and accurate information on banking and credit conditions, smaller banks could report monthly without a significant loss of accuracy. Internal tests conducted on weekly sample data converted to a monthly basis for several size thresholds indicate that the $5 billion asset size cut off would be unlikely to significantly impact the aggregated data results. However, the reporting burden for these smaller banks would be substantially reduced:

1. Twelve reportable data points versus 52 per year,

2. Expected fewer number of revisions, since data would be monthly rather than weekly, and

3. Marked reduction in failed tolerances and required edit remarks.

The Federal Reserve has been striving to bolster the size of the sample of respondents. Nineteen small banks have left the panel since the last report renewal in April 2022 due to burden, leaving the current panel (as of spring 2024) short of the authorized sample of 850 by about 90 banks. Community banks in particular have fewer resources at their disposal and less staff available for filing the report; the time burden is the most common reason given by these banks when they drop from the sample. The Federal Reserve hopes that, by giving the banks the option to file less frequently, it will be easier to recruit and retain smaller institutions on the panel. Though small in assets, these banks are outsized in their effects on commercial real estate loans, as community banks hold more than twice the outstandings of these loans relative to the large and regional banks.

Thus, the Board proposes that all domestically chartered commercial banks reporting under $5 billion in total assets on the latest June 30 Call Report be given the option to report as of the first Wednesday of each month. Approximately 495 of the current 696 domestically chartered commercial banks would be eligible to report on a one week per month basis. This change in frequency of reporting follows the favorable treatment given smaller institutions on the FFIEC 051 Call Report. Monthly reporting would not be available for foreign-related institutions.

Frequency: Weekly, monthly.

Respondents: Domestically chartered commercial banks, U.S. branches and agencies of foreign banks.

Total estimated number of respondents: 850.

Estimated average hours per response: 2.45.

Total estimated change in burden: (57,722).

Total estimated annual burden hours: 50,568.

Board of Governors of the Federal Reserve System, November 12, 2024.
Benjamin W. McDonough,
Deputy Secretary and Ombuds of the Board.

[FR Doc. 2024-26704 Filed 11-14-24; 8:45 am]

BILLING CODE 6210-01-P